DEPARTMENT OF JUSTICE

Notice of Lodging Proposed Consent Decree

In accordance with Departmental Policy, 28 CFR 50.7, notice is hereby given that a proposed consent decree in United States v. Sho-Deen, Inc., and Sho-Deen Construction Company, L.L.C., Case No. 07 C 2900, was lodged with the United States District Court for the Northern District of Illinois on April 11, 2008. This proposed Consent Decree concerns a complaint filed by the United States against the Defendants pursuant to Section 30 1(a) of the Clean Water Act (“CWA”), 33 U.S.C. 1311(a), to obtain injunctive relief from and impose civil penalties against the Defendants for discharging dredged and fill material into Mill Creek without a permit. The proposed Consent Decree requires payment of a civil penalty, and payment for off-site mitigation.

The Department of Justice will accept written comments relating to this proposed Consent Decree for thirty (30) days from the date of publication of this notice. Please address comments to Kurt Lindland, Assistant United States Attorney, United States Attorney's Office, 5th Floor, 219 S. Dearborn Street, Chicago, Illinois 60604 and refer to United States v. Sho-Deen, Inc., and Sho-Deen Construction Company, L.L.C., Case No. 07 C 2900, including the USAO # 2007V00571.

The proposed Consent Decree may be examined at the Clerk's Office, United States District Court for the Northern District of Illinois, 219 S. Dearborn Street, Chicago, Illinois. In addition, the proposed Consent Decree may be viewed on the World Wide Web at http://www.usdoj.gov/enrd/open.html.

Kurt N. Lindland,
Assistant United States Attorney.

[FR Doc. E8-8647 Filed 4-22-08; 8:45 am]

BILLING CODE 4410-15-M